DEPARTMENT OF ENERGY

Federal Energy Regulatory Commission

Combined Notice of Filings #2

Take notice that the Commission received the following exempt wholesale generator filings:

Docket Numbers: EG25-312-000.

Applicants: Coldwater River Solar, LLC.

Description: Coldwater River Solar, LLC submits Notice of Self-Certification of Exempt Wholesale Generator Status.

Filed Date: 5/6/25.

Accession Number: 20250506-5128.

Comment Date: 5 p.m. ET 5/27/25.

Docket Numbers: EG25-313-000.

Applicants: Badger Wind, LLC.

Description: Badger Wind, LLC submits Notice of Self-Certification of Exempt Wholesale Generator Status.

Filed Date: 5/6/25.

Accession Number: 20250506-5135.

Comment Date: 5 p.m. ET 5/27/25.

Take notice that the Commission received the following electric rate filings:

Docket Numbers: ER25-2071-001.

Applicants: PJM Interconnection, L.L.C.

Description: Tariff Amendment: Amendment of NSA, Original SA No. 7663; Queue No. AB2-133 in Docket No. ER25-2071 to be effective 6/29/2025.

Filed Date: 5/6/25.

Accession Number: 20250506-5074.

Comment Date: 5 p.m. ET 5/27/25.

Docket Numbers: ER25-2161-000.

Applicants: Mid-Atlantic Interstate Transmission, LLC.

Description: § 205(d) Rate Filing: MAIT submits 3 amended ECSAs—SA #s 6941, 6944, and 7221 to be effective 7/7/2025.

Filed Date: 5/6/25.

Accession Number: 20250506-5090.

Comment Date: 5 p.m. ET 5/27/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: https://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organization, Tribal members and others, access publicly available information and navigate Commission processes.

For public inquiries and assistance with making filings such as interventions, comments, or requests for rehearing, the public is encouraged to contact OPP at (202) 502-6595 or OPP@ferc.gov.

Dated: May 6, 2025.
Carlos D. Clay,
Deputy Secretary.

[FR Doc. 2025-08262 Filed 5-9-25; 8:45 am]

BILLING CODE 6717-01-P